DEPARTMENT OF TRANSPORTATION

Coast Guard

33 CFR Part 117

[CGD13-01-023]

RIN 2115-AE47

Drawbridge Operations Regulations; Lake Washington Ship Canal, WA

AGENCY: Coast Guard, DOT.

ACTION: Temporary final rule.

SUMMARY: The Coast Guard is establishing a temporary final rule governing the operation of the dual Montlake Drawbridge across the Lake Washington Ship Canal, mile 5.2, at Seattle, Washington. This rule allows the bridge operator to keep the bridge in the closed-to-navigation position at certain times to accommodate vehicular traffic before and after football and basketball games at the University of Washington sport facilities, Seattle, WA from November 12, 2001, through June 9, 2002.

DATES: This temporary final rule is effective from November 5, 2001, through June 9, 2002.

ADDRESSES: Unless otherwise noted, documents referred to in this rule are available for inspection and copying at Commander (oan), Thirteenth Coast Guard District, 915 Second Avenue, Seattle, Washington 98174-1067,room 3510 between 7:45 a.m. and 4:15 p.m., Monday through Friday, except federal holidays. The Bridge Section of the Aids to Navigation and Waterways Management Branch maintains the docket for this temporary final rule.

FOR FURTHER INFORMATION CONTACT: Austin Pratt, Chief, Bridge Section, Aids to Navigation and Waterways Management Branch, Telephone (206) 220-7282.

SUPPLEMENTARY INFORMATION:

Regulatory Information

We did not publish a notice of proposed rulemaking (NPRM) for this regulation. Under 5 U.S.C. 553(b)(B), the Coast Guard finds that good cause exists for not publishing an NPRM. Under 33 Code of Federal Regulations 117.37 the District commander may authorize closures for public interest concerns based on the necessity for the closures, the reasonableness of the times and dates, and the overall effect on navigation and users of the bridge.

The closed draw of the Montlake Bridge across the Lake Washington Ship Canal, mile 5.2, at Seattle, Washington, provides 48 feet of vertical clearance above the mean regulated lake level of Lake Washington for the central 100 feet of the bascule span. The University of Washington football stadium is located on Montlake Boulevard about 300 yards north of the Montlake Bridge. The University of Washington and the Seattle Seahawks football teams use Husky Stadium, which has a maximum seating capacity of 78,000. The indoor stadium for basketball games is located just north of Husky Stadium. The same parking facilities are used for all games. Furthermore, the emergency entrance to the University of Washington Hospital is about the same distance north as Husky Stadium on the opposite side of Montlake Boulevard. The Montlake Bridge provides the closest crossing of the Lake Washington Ship Canal for ambulances. The canal bisects Seattle from east to west. About 300 yards south of the bridge, Montlake Boulevard has access to State Route 520, a major east-west highway that connects to Interstate 5 and 405. Practical alternate routes with similar capacity around the bridge do not exist.

Before and after games the traffic becomes extremely dense. Normal weekend traffic across the bridge is about 40,000 vehicles each day. Draw openings would aggravate congestion. Even on days without large public events, an opening of this bascule on the weekend can queue traffic for a mile to the north and a mile to the south. While the Lake Washington Ship Canal does bear some commercial navigation beneath the Montlake Bridge, most of the draw openings are for sailboats. Many of the tugs that operate on this part of the canal are able to pass under the drawbridge in its closed position.

From September 2000 through February 2001 the bridge opened on average 8 times on Saturday and 8 times on Sunday between the hours of 10 a.m. and 9 p.m. Since these are only the bracketing hours of the football periods, the number of openings that would be affected is actually less than 8 on average. In other words, the earliest start of a closed period (10 a.m.) is not utilized with the latest end time (9 p.m.) The morning and afternoon closed periods vary in duration but none is more than three hours. Therefore, the maximum daily affected period between 10 a.m. and 9 p.m. is 5.75 hours, not 11 hours. On average these public interest closures would affect two or three vessels at most. Most of the basketball games are in the evening hours and most of the closures for the basketball games are only for one hour. These closures have been authorized for many years and are known and expected by many local boaters and members of the marine industry in Seattle. The schedule has also been published in the Local Notice to Mariners prior to the first affected date so that vessel operators may plan accordingly.

This temporary final rule allows the bridge to remain closed to navigation during times of heavy traffic before and after the football and basketball games at the University of Washington.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040; February 26, 1979).

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. The Coast Guard certifies under 5 U.S.C. 605(b) that this rule will not have a significant economic impact on a substantial number of small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Environment

The Coast Guard considered the environmental impact of this rule and concluded that under figure 2-1 paragraph (32)(e) of Commandant Instruction M16475.1D, this rule is categorically excluded from further environmental documentation because promulgation of changes to drawbridge regulation have been found to not have a significant effect on the environment. A writer “categorical Exclusion Determination” is not required for this temporary final rule.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U. S. C. 499; 49 CFR 1.46; 33 CFR 1.05-19g); section 117.255 also issued under the authority of Pub. L. 102-587, 106, Stat 5039

1. From November 5, 2001, until June 9, 2002, § 117.1051(e) is amended by adding a new paragraph (e)(4) to read as follows:

§ 117.1051 Lake Washington Ship Canal.

* * * * *

(e) * * *

(4) The Montlake bridge need not open during the following dates and times:

12-Nov-01—9 p.m.-10 p.m.

17-Nov-01—10 a.m.-12:45 p.m.; 3 p.m.-6 p.m.

23-Nov-01—8 p.m.-9 p.m.; 10 p.m.-11 p.m.

24-Nov-01—3 p.m.-4 p.m.; 8 p.m.-9 p.m.

24-Nov-01—10 p.m.-11 p.m.

27-Nov-01—9 p.m.-10 p.m.

28-Nov-01—9 p.m.-10 p.m.

7-Dec-01—10:30 a.m.-1:15 p.m.; 3:30 p.m.-6:30 p.m.

7-Dec-01—10 p.m.-11 p.m.

9-Dec-01—5 p.m.-6 p.m.

11-Dec-01—9:30 p.m.-10:30 p.m.

20-Dec-01—9:30 p.m.-10:30 p.m.

21-Dec-01—9 p.m.-10 p.m.

26-Dec-01—10:45 a.m.-1:30 p.m.; 3:45 p.m.-6:45 p.m.

27-Dec-01—9:30 p.m.-10:30 p.m.

4-Jan-02—9 p.m.-10 p.m.

6-Jan-02—3 p.m.-4 p.m.

10-Jan-02—9 p.m.-10 p.m.

12-Jan-02—4 p.m.-5 p.m.

17-Jan-02—9 p.m.-10 p.m.

24-Jan-02—9 p.m.-10 p.m.

26-Jan-02—4 p.m.-5 p.m.

7-Feb-02—9 p.m.-10 p.m.

9-Feb-02—3 p.m.-4 p.m.

14-Feb-02—9 p.m.-10 p.m.

16-Feb-02—7 p.m.-8 p.m.

21-Feb-02—9 p.m.-10 p.m.

23-Feb-02—3 p.m.-4 p.m.

28-Feb-02—9 p.m.-10 p.m.

9-Jun-02—11 a.m.-2 p.m.; 4:30 p.m.-6 p.m.

Dated: November 5, 2001.
Erroll Brown,
Rear Admiral, U.S. Coast Guard, Commander, Thirteenth Coast Guard, District.

[FR Doc. 01-29644 Filed 11-28-01; 8:45 am]

BILLING CODE 4910-15-P